DEPARTMENT OF TRANSPORTATION

Federal Railroad Administration

[Docket Number FRA-2018-0063]

Petition for Waiver of Compliance

Under part 211 of Title 49 Code of Federal Regulations (CFR), this provides the public notice that by letter dated July 11, 2018, Naugatuck Railroad Company (NAUG), the operator of trackage owned by the Connecticut Department of Transportation (CDOT) between Waterbury, CT, and Torrington, CT, known as the “Torrington Secondary,” petitioned the Federal Railroad Administration (FRA) for a waiver of compliance from certain provisions of the Federal railroad safety regulations contained at 49 CFR part 234. FRA assigned the petition Docket Number FRA-2018-0063.

NAUG seeks a waiver of compliance from the requirements of 49 CFR 234.247, Purpose of inspections and tests; removal from service of relay or device failing to meet test requirements. Specifically, NAUG seeks relief to operate over two non-functioning highway-rail grade crossings without making inspections and tests required in §§ 234.249 through 234.271.

Previous owners and operators of this track allowed signals in Torrington, CT, to fall into disrepair at Albert Street, DOT #503956B, and Litchfield Street, DOT #503957B, both two-way, single traffic lane streets. One crossing has equipment over 60 years old, and the second, more complex crossing signal system, has equipment that is over 30 years old. As part of Petitioner's commitment to provide rail services to those that require them, the need to access areas of the railroad previously deemed out of service became necessary. In partnership with CDOT, through the CT Rail Freight Improvement Program, this track was rehabilitated to FRA Class 1 standards, but no grade crossing funding was available for these crossings. Petitioner requests relief to provide service to its customers and generate the revenue needed to continue to rehabilitate this segment of track.

In lieu of performing all required tests (and repairs identified by the required tests), Petitioner requests to continue limited operations over the two affected grade crossings by:

• Contacting local authorities to advise that a crossing may need to be occupied by a train.

• Stationing an employee at each crossing to provide warning to approaching highway traffic and communicate with motorists as needed, as provided in Northeast Operating Rules Advisory Committee “stop and protect” rules.

All other grade crossings in Torrington are “stop and protect” crossings on two-way, single traffic lane streets, with no automatic highway warning protective devices.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 15, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Safety, Chief Safety Officer.

[FR Doc. 2018-18808 Filed 8-29-18; 8:45 am]

BILLING CODE 4910-06-P